DEPARTMENT OF THE TREASURY

Internal Revenue Service

26 CFR Part 301

[REG-159444-04]

RIN 1545-BE35

Release of Lien or Discharge of Property; Correction

AGENCY: Internal Revenue Service (IRS), Treasury.

ACTION: Correction to notice of proposed rulemaking.

SUMMARY: This document contains corrections to a notice of proposed rulemaking (REG-159444-04) that was published in the Federal Register on Thursday, January 11, 2007 (72 FR 1301) relating to release of lien and discharge of property under sections 6325, 6503, and 7426 of the Internal Revenue Code.

FOR FURTHER INFORMATION CONTACT: Debra A. Kohn, (202) 622-7985 (not toll-free number).

SUPPLEMENTARY INFORMATION:

Background

The correction notice that is the subject of this document is under sections 6325, 6503, and 7426 of the Internal Revenue Code.

Need for Correction

As published, the notice of proposed rulemaking (REG-159444-04) contains errors that may prove to be misleading and are in need of clarification.

Correction of Publication

Accordingly, the publication of proposed rulemaking (REG-159444-04), which was the subject of FR Doc. E7-219, is corrected as follows:

1. On page 1302, column 1, in the preamble, under the paragraph heading “Background”, sixth line from the bottom of the second paragraph of the column, the language “addition these provisions to the Code,” is corrected to read “addition of these provisions to the Code,”.

§ 301.6325-1 [Corrected]

2. On page 1306, column 3, § 301.6325-1(a)(2)(i), fourth paragraph of the column, sixth line from the bottom of the paragraph, the language “been put into the matter. In no case” is corrected to read “been put in the matter. In no case”.

LaNita Van Dyke,
Chief, Publications and Regulations Branch, Legal Processing Division, Associate Chief Counsel (Procedure and Administration).

[FR Doc. E7-2496 Filed 2-13-07; 8:45 am]

BILLING CODE 4830-01-P